DEPARTMENT OF HOMELAND SECURITY

Federal Emergency Management Agency

Agency Information Collection Activities: Proposed Collection; Comment Request

AGENCY: Federal Emergency Management Agency, Department of Homeland Security.

ACTION: Notice and request for comments.

SUMMARY: The Federal Emergency Management Agency, as part of its continuing effort to reduce paperwork and respondent burden, invites the general public and other Federal agencies to take this opportunity to comment on a proposed extension of a currently approved collection. In accordance with the Paperwork Reduction Act of 1995, this notice seeks comments concerning an informal appeals process to allow policyholders to request an appeal for an unsatisfactory decision on flood insurance claims.

SUPPLEMENTARY INFORMATION: Section 205 of the Bunning-Bereuter-Blumenauer Flood Insurance Reform Act of 2004, Public Law 108-264, requires FEMA to establish by regulation a formal process for the appeal of decisions of flood insurance claims issued through the National Flood Insurance Program (NFIP). The appeals process is available after the issuance of the insurer's final claim determination, which is the insurer's written denial, in whole or in part, of the insured's claim. An insured must file an appeal within 60 days after receiving the insurer's final claim determination.

Collection of Information

Title: National Flood Insurance Claims Appeal Process.

Type of Information Collection: Extension of a currently approved collection.

OMB Number: 1660-0095.

Form Numbers: None.

Abstract: This information collection implements the mandates of section 205 of the Bunning-Bereuter-Blumenauer Flood Insurance Reform Act of 2004 to establish an appeal process for NFIP policyholders in cases of unsatisfactory decisions on claims, proof of loss, and loss estimates made by any insurance company, agent, adjuster, or FEMA employee or contractor.

Affected Public: Individuals or households and Business or other for profit.

Estimated Total Annual Burden Hours:

Annual Burden Hours
Project/activity (survey, form(s), focus group, worksheet, etc.) | Number of respondents | Frequency of responses | Burden hours per respondent | Annual responses | Total annual burden hours
| (A) | (B) | (C) | (D) = (A×B) | (E) = (C×D)
Appeal Letter | 2,000 | 1 | 2 | 2,000 | 4,000
Total | 2,000 |  | 2 | 2,000 | 4,000

Estimated Cost: Total cost to all respondents combined is estimated at $56,000. with an average cost per respondent of $28.00/appeal.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before November 6, 2006.

ADDRESSES: Interested persons should submit written comments to Chief, Records Management and Privacy, Information Resources Management Branch, Information Technology Services Division, Federal Emergency Management Agency, 500 C Street, SW., Room 316, Washington, DC 20472.

FOR FURTHER INFORMATION CONTACT: Contact Priscilla Scruggs, Section Chief, Mitigation Division, (202) 646-4155 for additional information. You may contact the Records Management Branch for copies of the proposed collection of information at facsimile number (202) 646-3347 or e-mail address: FEMA-Information-Collections@dhs.gov.

Dated: September 1, 2006.
John A. Sharetts-Sullivan,
Chief, Records Management and Privacy Information Resources Management Branch, Information Technology Services Division.

[FR Doc. E6-14822 Filed 9-6-06; 8:45 am]

BILLING CODE 9110-11-P